POSTAL REGULATORY COMMISSION

[Docket Nos. MC2020-252 and CP2020-282; Order No. 5690]

New Postal Products

AGENCY: Postal Regulatory Commission.

ACTION: Notice.

SUMMARY: The Commission is acknowledging a recent Postal Service filing concerning the addition of a new product, International Competitive Multi-Service Commercial Contracts 1, to the competitive product list within the Mail Classification Schedule (MCS). This document informs the public of the filing, invites public comment, and takes other administrative steps.

DATES: Comments are due: October 5, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On September 18, 2020, the Postal Service filed a request to add a new product, International Competitive Multi-Service Commercial Contracts 1, to the competitive product list within the Mail Classification Schedule (MCS), pursuant to 39 U.S.C. 3642 and 39 CFR 3040.130-135.¹ As part of the Request, the Postal Service proposes a revised filing process for adding outbound international negotiated service agreement (NSA) contracts to the competitive product list. Request at 1.

¹ Request of the United States Postal Service to Add International Competitive Multi-Service Commercial Contracts 1 to the Competitive Products List and Application for Non-Public Treatment of Materials Filed Under Seal, September 18, 2020 (Request).

Under this process, the Postal Service proposes to file almost all future customized outbound international NSAs within the International Competitive Multi-Service Commercial Contracts 1 product. Id. at 4. These contracts would be approved without any further action from the Commission, unless the Commission determines that further review is necessary. Id. at 13. As a result, the Postal Service contends that the administrative burden associated with these agreements would be lessened.² The Postal Service suggests that the review process could be conducted in five business days and then, through progressive experience, eventually in three business days. Id. at 15.

² Specifically, the Postal Service would no longer file the applicable decision from its Board of Governors, revisions to the MCS, statements of supporting justification, or applications for non-public treatment. Id. at 8. The Commission would not issue initial scheduling notices and final orders for each agreement. Id. at 15. Additionally, routine Public Representative comments could be eliminated as well. Id.

The Postal Service asserts that the Commission is capable of achieving this objective. Id. The Postal Service also claims that its customers “would benefit from the enhanced predictability and increased speed to market” resulting from the proposed streamlined review process. Id. at 23.

II. Contents of Filing

To support its Request, the Postal Service filed a redacted version of Governors' Decision No. 19-1,³ proposed revisions to the MCS, a document that sets forth the current procedures for filing an outbound international NSA and the proposed process for filing these agreements within the International Competitive Multi-Service Commercial Contracts 1 product, an unsigned template for the certified statement that would be included in filings of outbound international NSAs within the International Competitive Multi-Service Commercial Contracts 1 product, and a statement of supporting justification. Notice at 5-6; see id. Attachments 2-6. Additionally, the Postal Service filed an unredacted copy of Governors' Decision No. 19-1 under seal and an application for non-public treatment of materials filed under seal. Notice n.12; id. Attachment 1.

³ Decision of the Governors of the United States Postal Service on the Establishment of Prices and Classifications for Domestic Competitive Agreements, Outbound International Competitive Agreements, Inbound International Competitive Agreements, and Other Non-Published Competitive Rates (Governors' Decision No. 19-1), February 7, 2019.

III. Commission Action

The Commission establishes Docket Nos. MC2020-252 and CP2020-282 for consideration of matters raised by the Notice and appoints Katalin K. Clendenin to serve as Public Representative in this docket.

The Commission invites comments on whether the Postal Service's filing is consistent with 39 U.S.C. 3642 and 39 CFR 3040.130-135. Comments are due no later than October 5, 2020. The public portions of the filing can be accessed via the Commission's website (http://www.prc.gov). Non-public portions of the Postal Service's request(s) can be accessed through compliance with the requirements of 39 CFR 3011.

IV. Ordering Paragraphs

It is ordered:

1. The Commission establishes Docket Nos. MC2020-252 and CP2020-282 for consideration of the matters raised by the Postal Service's Request.

2. Pursuant to 39 U.S.C. 505, Katalin K. Clendenin is appointed to serve as an officer of the Commission to represent the interests of the general public in this proceeding (Public Representative).

3. Comments are due no later than October 5, 2020.

4. The Secretary shall arrange for publication of this order in the Federal Register.

By the Commission.
Erica A. Barker,
Secretary.

[FR Doc. 2020-21172 Filed 9-24-20; 8:45 am]

BILLING CODE 7710-FW-P